ENVIRONMENTAL PROTECTION AGENCY

40 CFR Part 70

[AZ060-OPP; FRL-7112-8]

Clean Air Act Full Approval of the Operating Permits Program for the Pinal County Air Quality Control District, AZ

AGENCY: Environmental Protection Agency (EPA).

ACTION: Final rule.

SUMMARY: EPA is taking final action to fully approve the Pinal County Air Quality Control District (Pinal or District) operating permits program. The Pinal program was submitted in response to the directive in the 1990 Clean Air Act (CAA) Amendments that permitting authorities develop, and submit to EPA, programs for issuing operating permits to all major stationary sources and to certain other sources within the permitting authorities' jurisdiction. On October 30, 1996, EPA granted interim approval to Pinal's operating permits program. The District revised its program to satisfy the conditions of the interim approval, and EPA proposed full approval in the Federal Register on September 20, 2001, contingent upon Pinal submitting the rules to EPA as a revision to its part 70 program. Pinal County did so, and EPA did not receive any comments on the proposed action. This action promulgates final full approval of the Pinal operating permits program.

EFFECTIVE DATE: This rule is effective on November 30, 2001.

ADDRESSES: Copies of Pinal's submittal and other supporting information used in developing this final full approval are available for inspection during normal business hours at the following location: U.S. Environmental Protection Agency, Region 9, 75 Hawthorne Street, San Francisco, California 94105. You may also see copies of the submitted title V program at the following location: Pinal County Air Quality Control District, Building F, 31 North Pinal Street, Florence, Arizona 85232.

FOR FURTHER INFORMATION CONTACT: Emmanuelle Rapicavoli, EPA Region 9, at (415) 972-3969 or rapicavoli.emmanuelle@epa.gov.

SUPPLEMENTARY INFORMATION: This section contains additional information about our final rulemaking, organized as follows:

I. Background on the Pinal County Air Quality Control District operating permits program

II. EPA's Final Action

III. Effective date of EPA's full approval of the Pinal County Air Quality Control District operating permits program

I. Background on the Pinal County Air Quality Control District Operating Permits Program

The Clean Air Act (CAA) Amendments of 1990 required all state and local permitting authorities to develop operating permits programs that meet certain federal criteria. Pinal's operating permits program was submitted in response to this directive. Because the District program substantially, but not fully, met the requirements of part 70, EPA granted interim approval to the program in a rulemaking published on October 30, 1996. See 61 FR 55910. The interim approval notice described the conditions that had to be met in order for the District program to receive full approval.

After Pinal revised its program to address the conditions of the interim approval, EPA promulgated a proposal to approve the District's title V operating permits program on September 20, 2001, contingent upon Pinal submitting the rules that were adopted on September 5, 2001, as a revision to its part 70 program. See 66 FR 48402.

II. EPA's Final Action

EPA is granting full approval to the operating permits program submitted by the Pinal County Air Quality Control District based on the revisions adopted on September 5, 2001, and submitted to EPA on September 18, 2001, which satisfactorily address the program deficiencies identified in EPA's October 30, 1996 interim approval (61 FR 55910). In addition, EPA is approving, as a title V operating permits program revision, additional changes to Pinal's rules. The deficiency corrections and the additional program revisions are described in detail in the September 20, 2001 proposal and its accompanying technical support document. See 66 FR 48402.

The rules for which we are granting final approval are listed below.

Rule No. | Rule title | Adoption date | Submittal date
PCR 1-3-140 (79) | Definitions (definition of stationary source only) | 9/5/01 | 9/18/01
PCR 3-1-040 | Applicability and Classes of Permits | 9/5/01 | 9/18/01
PCR 3-1-045 | Transition from Installation and Operating Permit Program | 9/5/01 | 9/18/01
PCR 3-1-050 | Permit Application Requirements | 9/5/01 | 9/18/01
PCR 3-1-081 | Permit Conditions | 9/5/01 | 9/18/01
PCR 3-4-420 | Standards of Conditional Orders | 9/5/01 | 9/18/01
PCR 3-5-490 | Application for Coverage under a General Permit | 9/5/01 | 9/18/01
PCR 3-5-550 | Revocations of Authority to Operate under a General Permit | 9/5/01 | 9/18/01

In its program submission, Pinal County did not assert jurisdiction over Indian country. To date, no tribal government in Pinal County has applied to EPA for approval to administer a title V program in Indian country within the County. EPA regulations at 40 CFR part 49 govern how eligible Indian tribes may be approved by EPA to implement a title V program on Indian reservations and in non-reservation areas over which the tribe has jurisdiction. EPA's part 71 regulations govern the issuance of federal operating permits in Indian country. EPA's authority to issue permits in Indian country was challenged in Michigan v. EPA, (D.C. Cir. No. 99-1151). On October 30, 2001, the court issued its decision in the case, vacating a provision that would have allowed EPA to treat areas over which EPA determines there is a question regarding the area's status as if it is Indian country, and remanding to EPA for further proceedings. EPA will respond to the court's remand and explain EPA's approach for further implementation of part 71 in Indian country in a future action.

III. Effective Date of EPA's Full Approval of the Pinal County Air Quality Control District Operating Permits Program

EPA is using the good cause exception under the Administrative Procedure Act (APA) to make the full approval of the District's program effective on November 30, 2001. In relevant part, the APA provides that publication of “a substantive rule shall be made not less than 30 days before its effective date, except—* * * (3) as otherwise provided by the agency for good cause found and published with the rule.” 5 U.S.C. 553(d)(3). Section 553(b)(3)(B) of the APA provides that good cause may be supported by an agency determination that a delay in the effective date is impracticable, unnecessary, or contrary to the public interest. EPA finds that it is necessary and in the public interest to make this action effective sooner than 30 days following publication. In this case, EPA believes that it is in the public interest for the program to take effect before December 1, 2001. EPA's interim approval of Pinal County's program expires on December 1, 2001. In the absence of this full approval of Pinal County's amended program taking effect on November 30, the federal program under 40 CFR part 71 would automatically take effect in Pinal County and would remain in place until the effective date of the fully-approved state program. EPA believes it is in the public interest for sources, the public and Pinal County to avoid any gap in coverage of the state program, as such a gap could cause confusion regarding permitting obligations. Furthermore, a delay in the effective date is unnecessary because Pinal County has been administering the title V permit program for 5 years under an interim approval. Through this action, EPA is approving a few revisions to the existing and currently operational program. The change from the interim approved program which substantially met the part 70 requirements, to the fully approved program is relatively minor, in particular if compared to the changes between a state-established and administered program and the federal program.

Administrative Requirements

Under Executive Order 12866, “Regulatory Planning and Review” (58 FR 51735, October 4, 1993), this final approval is not a “significant regulatory action” and therefore is not subject to review by the Office of Management and Budget. Under the Regulatory Flexibility Act (5 U.S.C. 601 et seq.) the Administrator certifies that this final approval will not have a significant economic impact on a substantial number of small entities because it merely approves state law as meeting federal requirements and imposes no additional requirements beyond those imposed by state law. This rule does not contain any unfunded mandates and does not significantly or uniquely affect small governments, as described in the Unfunded Mandates Reform Act of 1995 (Public Law 104-4) because it approves pre-existing requirements under state law and does not impose any additional enforceable duties beyond that required by state law. This rule also does not have tribal implications because it will not have a substantial direct effect on one or more Indian tribes, on the relationship between the Federal Government and Indian tribes, or on the distribution of power and responsibilities between the Federal Government and Indian tribes, as specified by Executive Order 13175, “Consultation and Coordination with Indian Tribal Governments” (65 FR 67249, November 9, 2000). This rule also does not have Federalism implications because it will not have substantial direct effects on the States, on the relationship between the national government and the States, or on the distribution of power and responsibilities among the various levels of government, as specified in Executive Order 13132, “Federalism” (64 FR 43255, August 10, 1999). This rule merely approves existing requirements under state law, and does not alter the relationship or the distribution of power and responsibilities between the State and the Federal government established in the Clean Air Act. This final approval also is not subject to Executive Order 13045, “Protection of Children from Environmental Health Risks and Safety Risks” (62 FR 19885, April 23, 1997) or Executive Order 13211, “Actions Concerning Regulations That Significantly Affect Energy Supply, Distribution, or Use” (66 FR 28355 (May 22, 2001), because it is not a significant regulatory action under Executive Order 12866. This action will not impose any collection of information subject to the provisions of the Paperwork Reduction Act, 44 U.S.C. 3501 et seq., other than those previously approved and assigned OMB control number 2060-0243. For additional information concerning these requirements, see 40 CFR part 70. An agency may not conduct or sponsor, and a person is not required to respond to, a collection of information unless it displays a currently valid OMB control number.

In reviewing State operating permit programs submitted pursuant to title V of the Clean Air Act, EPA will approve State programs provided that they meet the requirements of the Clean Air Act and EPA's regulations codified at 40 CFR part 70. In this context, in the absence of a prior existing requirement for the State to use voluntary consensus standards (VCS), EPA has no authority to disapprove a State operating permit program for failure to use VCS. It would thus be inconsistent with applicable law for EPA, when it reviews an operating permit program, to use VCS in place of a State program that otherwise satisfies the provisions of the Clean Air Act. Thus, the requirements of section 12(d) of the National Technology Transfer and Advancement Act of 1995 (15 U.S.C. 272 note) do not apply.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective on November 30, 2001.

Under section 307(b)(1) of the Clean Air Act, petitions for judicial review of this action must be filed in the United States Court of Appeals for the appropriate circuit by February 4, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 70

Environmental protection, Administrative practice and procedure, Air pollution control, Intergovernmental relations, Operating permits, Reporting and recordkeeping requirements.

Dated: November 27, 2001.
Wayne Nastri,
Regional Administrator, Region 9.

40 CFR part 70, chapter I, title 40 of the Code of Federal Regulations is amended as follows:

PART 70—[AMENDED]

1. The authority citation for part 70 continues to read as follows:

Authority: 42 U.S.C. 7401, et seq.

2. Appendix A to part 70 is amended by adding paragraph (d)(3) under Arizona to read as follows:

Appendix A to Part 70—Approval Status of State and Local Operating Permits Programs

* * * * *

Arizona

* * * * *

(d) * * *

(3) revisions submitted on September 18, 2001. Full approval is effective on November 30, 2001.

* * * * *

[FR Doc. 01-30100 Filed 12-4-01; 8:45 am]

BILLING CODE 6560-50-P